DEPARTMENT OF HOUSING AND URBAN DEVELOPMENT

[Docket No. FR-5186-N-45]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Coast Guard: Commandant, United States Coast Guard, Attn: Teresa Sheinberg, 2100 Second St, SW., Rm 6109, Washington, DC 20593-0001; (202) 267-6142; Energy: Mr. Mark Price, Department of Energy, Office of Engineering and Construction Management, 1000 Independence Ave., SW., Washington, DC 20585; (202) 586-5422; GSA: Mr. John Smith, Deputy Assistant Commissioner, General Services Administration, Office of Property Disposal, 18th & F Streets, NW., Washington, DC 20405; (202) 501-0084; Navy: Mrs. Mary Arndt, Acting Director, Department of the Navy, Real Estate Services, Naval Facilities Engineering Command, Washington Navy Yard, 1322 Patterson Ave., SE., Suite 1000, Washington, DC 20374-5065; (202) 685-9305; (These are not toll-free numbers).

Dated: October 30, 2008.
Mark R. Johnston,
Deputy Assistant Secretary for Special Needs.

Title V, Federal Surplus Property Program

Federal Register Report for 11/07/2008

Suitable/Available Properties

Building

North Carolina

Federal Building

241 Sunset Ave.

Asheboro Co: Randolph NC 27203

Landholding Agency: GSA

Property Number: 54200840007

Status: Excess

GSA Number: 4-G-NC-0746-2AB

Comments: 6935 sq. ft., needs rehab, presence of asbestos/possible lead paint, most recent use office, covenant included noting building's National Register eligibility

Oregon

3 Bldgs/Land

OTHR-B Radar

Cty Rd 514

Christmas Valley OR 97641

Landholding Agency: GSA

Property Number: 54200840003

Status: Excess

GSA Number: 9-D-OR-0768

Comments: 14000 sq. ft. each/2626 acres, most recent use—radar site, right-of-way

U.S. Customs House

220 NW. 8th Ave.

Portland OR

Landholding Agency: GSA

Property Number: 54200840004

Status: Excess

GSA Number: 9-D-OR-0733

Comments: 100,698 sq. ft., historical property/National Register, most recent use—office, needs to be brought up to meet earthquake code and local bldg codes, presence of asbestos/lead paint

Suitable/Available Properties

Building

Texas

Federal Center (Bldg 11A)

501 West Felix St.

Fort Worth TX 76115

Landholding Agency: GSA

Property Number: 54200840005

Status: Excess

GSA Number: 7-G-TX-0767AF

Comments: 8324 sq. ft., most recent use—office, off-site use only

Land

Arizona

SRP Ditch

24th St. & Jones Ave.

Phoenix AZ 85040

Landholding Agency: GSA

Property Number: 54200840001

Status: Surplus

GSA Number: AZ-0849-AA

Comments: approx. 4131 sq. ft. unimproved land, floodplain

Suitable/Available Properties

Land

Wyoming

Cody Wyoming Property

Hwy 20

Park WY

Landholding Agency: GSA

Property Number: 54200840006

Status: Surplus

GSA Number: 7-I-WY-0547

Comments: 2.1 acres

Unsuitable Properties

Building

Alaska

Bldg. 10

LORAN Station

Carroll Inlet AK

Landholding Agency: Coast Guard

Property Number: 88200840001

Status: Excess

Reasons: Extensive deterioration, Not accessible by road

Unsuitable Properties

Building

California

5 Bldgs.

Lawrence Livermore Natl Lab

1481, 1527, 1884, 1885, 1927

Livermore CA

Landholding Agency: Energy

Property Number: 41200840001

Status: Excess

Reasons: Extensive deterioration

Bldgs. 3577, 3982, 4128

Lawrence Livermore Natl Lab

Livermore CA

Landholding Agency: Energy

Property Number: 41200840002

Status: Excess

Reasons: Secured Area

Bldgs. 453, 454, 508, 509

Naval Air Station

Lemoore CA

Landholding Agency: Navy

Property Number: 77200840003

Status: Unutilized

Reasons: Extensive deterioration, Secured Area, within 2000 ft. of flammable or explosive material

Unsuitable Properties

Building

California

Bldgs. 950, 952, 994

Naval Air Station

Lemoore CA

Landholding Agency: Navy

Property Number: 77200840004

Status: Unutilized

Reasons: Secured Area

Connecticut

Bldgs. 105, 285

Naval Submarine Base

Groton Co: New London CT 06349

Landholding Agency: Navy

Property Number: 77200840005

Status: Excess

Reasons: Secured Area

Tennessee

Bldgs. 01, 02

Naval Surface Warfare

Memphis TN 38118

Landholding Agency: Navy

Property Number: 77200840007

Status: Underutilized

Reasons: Secured Area

Unsuitable Properties

Building

Texas

Bldgs. 04-024, 04-027, 04-029

Pantex Plant

Amarillo TX

Landholding Agency: Energy

Property Number: 41200840003

Status: Unutilized

Reasons: Secured Area, within 2000 ft. of flammable or explosive material

Bldgs. 09-013, 09-125

Pantex Plant

Amarillo TX

Landholding Agency: Energy

Property Number: 41200840004

Status: Unutilized

Reasons: Secured Area, within 2000 ft. of flammable or explosive material

5 Bldgs.

Pantex Plant

Amarillo TX

Landholding Agency: Energy

Property Number: 41200840005

Status: Unutilized

Directions: 09-095, 09-126, 09-132, 09-132A, 09-134

Reasons: Secured Area, within 2000 ft. of flammable or explosive material

Unsuitable Properties

Building

Texas

Bldg. 11-027

Pantex Plant

Amarillo TX

Landholding Agency: Energy

Property Number: 41200840006

Status: Unutilized

Reasons: Within 2000 ft. of flammable or explosive material, Secured Area

4 Bldgs.

Pantex Plant

Amarillo TX

Landholding Agency: Energy

Property Number: 41200840007

Status: Unutilized

Directions: 12-R-009B, 12-0245, 12-041SS, 12-075A

Reasons: Within 2000 ft. of flammable or explosive material, Secured Area

Virginia

Bldg. 3186

Naval Amphibious Base

Little Creek Co: Norfolk VA

Landholding Agency: Navy

Property Number: 77200840006

Status: Unutilized

Reasons: Secured Area

Unsuitable Properties

Land

North Dakota

11 Missile Launch Facilities

Grand Forks ND

Landholding Agency: GSA

Property Number: 54200840002

Status: Surplus

GSA Number: 7-D-ND-0500

Reasons: Contamination

[FR Doc. E8-26321 Filed 11-6-08; 8:45 am]

BILLING CODE 4210-67-P